OFFICE OF GOVERNMENT ETHICS

Announcement of Office of Government Ethics Guidance Portal

AGENCY: Office of Government Ethics.

ACTION: Notice of new guidance portal.

SUMMARY: The U.S. Office of Government Ethics (OGE) is publishing this notice to announce a new guidance portal on its website for guidance documents, as required by Executive Order 13891 “Promoting the Rule of Law Through Improved Agency Guidance Documents.”

DATES: The guidance portal is accessible by the public on the date of publication of this notice: July 29, 2020.

FOR FURTHER INFORMATION CONTACT: Patrick J. Lightfoot, Assistant Counsel, U.S. Office of Government Ethics, Telephone: 202-482-9300.

SUPPLEMENTARY INFORMATION: Executive Order 13891 “Promoting the Rule of Law Through Improved Agency Guidance Documents” requires each agency to establish or maintain on its website a guidance portal that contains or links to all guidance documents in effect issued by that agency. Guidance documents are defined by the Executive Order, subject to certain exclusions, as agency statements of general applicability, intended to have future effect on the behavior of regulated parties, that set forth a policy on a statutory, regulatory, or technical issue, or an interpretation of a statute or regulation.

The Office of Management and Budget (OMB) issued Memorandum M-20-02, “Guidance Implementing Executive Order 13891, Titled `Promoting the Rule of Law Through Improved Agency Guidance Documents' ” on October 31, 2019. OMB's memorandum directed agencies to establish a guidance portal and publish a notice in the Federal Register announcing it. Accordingly, this notice announces that OGE has established its guidance portal at: https://www.oge.gov/guidance.

The guidance portal notes that guidance documents do not have the force and effect of law, except as authorized by law or as incorporated into a contract. However, to the extent that a guidance document provides an interpretation of the government ethics laws and regulations or concerns aspects of ethics program management, guidance documents are controlling within the executive branch. Guidance documents not included in the guidance portal will not be cited to, used, or relied on by OGE, except to establish historical facts.

Approved: July 23, 2020.
Emory Rounds,
Director, U.S. Office of Government Ethics.

[FR Doc. 2020-16363 Filed 7-28-20; 8:45 am]

BILLING CODE 6345-03-P